SECURITIES AND EXCHANGE COMMISSION

[Release No. 34-56227A; File No. SR-CBOE-2007-83]

Self-Regulatory Organizations; Chicago Board Options Exchange, Incorporated; Notice of Filing and Immediate Effectiveness of Proposed Rule Change and Amendment No. 1 Thereto To Amend CBOE Rules relating to the Appointment Cost for Options on the Nasdaq-100 Index Tracking Stock

August 20, 2007.

Correction

FR Document No. E7-15901, beginning on page 45846 for Wednesday, August 15, 2007,¹ incorrectly stated the date of the release as August 8, 2008. The date should be revised to read “August 8, 2007.”

¹ See Securities Exchange Act Release No. 56227 (August 8, 2007), 72 FR 45846.

For the Commission, by the Division of Market Regulation, pursuant to delegated authority.²
² 17 CFR 200.30-3(a)(12).
Florence E. Harmon,
Deputy Secretary.

[FR Doc. E7-16753 Filed 8-23-07; 8:45 am]

BILLING CODE 8010-01-P